FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 14, 2002.

A.. Federal Reserve Bank of Richmond (A. Linwood Gill, III, Vice President) 701 East Byrd Street, Richmond, Virginia 23261-4528:

1. Frederick Willetts, III, individually and together with Myrna Todd Willetts, Helen Messick Willetts, Elizabeth Messick Willetts, Helen Margaret Willetts, Sarah Jennings Willetts, Margaret Ellen Willetts, Susan Rothwell Willetts, Frederick Willetts, Jr., Trust, Willetts Building Trust, Elizabeth Messick Willetts Medical Trust, Sarah Jennings Willetts Trust, Margaret Ellen Willetts Trust, Susan Rothwell Willetts Trust, and Stephanie Rose Willetts Trust, all of Wilmington, North Carolina; to acquire voting shares of Cooperative Bankshares, Inc., Wilmington, North Carolina, and thereby indirectly acquire voting shares of Cooperative Bank for Savings, Inc., SSB, Wilmington, North Carolina.

B. Federal Reserve Bank of Dallas (W. Arthur Tribble, Vice President) 2200 North Pearl Street, Dallas, Texas 75201-2272:

1. The Jeff Austin Jr., Dynasty Trust, and The Laural P. (“Sissy”) Austin Dynasty Trust, both of Jacksonville, Texas; to acquire voting shares of JSA Family Limited Partnership, Jacksonville, Texas, and thereby indirectly acquire voting shares of First State Bank, Athens, Texas; Austin Bank, Texas National Association, Jacksonville, Texas; Capital Bank, Jacinto City, Texas, and First State Bank, Frankston, Texas.

Board of Governors of the Federal Reserve System, February 22, 2002.
Robert deV. Frierson,
Deputy Secretary of the Board.

[FR Doc. 02-4702 Filed 2-27-02; 8:45 am]

BILLING CODE 6210-01-S